DEPARTMENT OF HEALTH AND HUMAN SERVICES

Agency for Healthcare Research and Quality

Notice of Meetings

Change in the Notice of Meetings

The subcommittee meeting “Health Care Technology and Decision Sciences” will only be held on October 6 (and not on October 5-6 as published in the Federal Register of September 6, 2000, vol. 65, no. 173, page 54035). The place and time of this meeting will remain the same. The rest of the meetings mentioned in the September 6 Federal Register will meet as scheduled.

Dated: September 28, 2000.
John M. Eisenberg,
Director.

[FR Doc. 00-25340 Filed 9-29-00; 8:45 am]

BILLING CODE 4160-90-M